FEDERAL COMMUNICATIONS COMMISSION

47 CFR Part 101

[WT Docket No. 10-153; RM-11602; FCC 11-120]

Facilitating the Use of Microwave for Wireless Backhaul and Other Uses and Providing Additional Flexibility To Broadcast Auxiliary Service and Operational Fixed Microwave Licensees

AGENCY: Federal Communications Commission.

ACTION: Proposed rule.

SUMMARY: In this document, the Commission seeks more targeted comments on proposals originally discussed in its Notice of Inquiry (NOI), for increasing the flexibility of our part 101 rules to promote wireless backhaul. We seek comment on certain proposals offered by parties in response to the NOI that we believe warrant further consideration. We also seek comment on additional ways to increase the flexibility, capacity and cost-effectiveness of the microwave bands, while protecting incumbent licensees in these bands. By enabling more flexible and cost-effective microwave services, the Commission can help accelerate deployment of fourth-generation (4G) mobile broadband infrastructure across America. In addition, we address a petition for rulemaking filed by Fixed Wireless Communications Coalition (FWCC).

DATES: Submit comments on or before October 4, 2011. Submit reply comments on or before October 25, 2011.

ADDRESSES: Federal Communications Commission, 445 12th Street, SW., Washington, DC 20554. You may submit comments, identified by WT Docket No. 10-153, by any of the following methods:

Federal eRulemaking Portal: http://www.regulations.gov. Follow the instructions for submitting comments.

Federal Communications Commission's Web Site: http://www.fcc.gov/cgb/ecfs/. Follow the instructions for submitting comments.

People with Disabilities: Contact the FCC to request reasonable accommodations (accessible format documents, sign language interpreters, CART, etc.) by e-mail: FCC504@fcc.gov or phone: (202) 418-0530 or TTY: (202) 418-0432.

For detailed instructions for submitting comments and additional information on the rulemaking process, see the SUPPLEMENTARY INFORMATION section of this document.

FOR FURTHER INFORMATION CONTACT: John Schauble, Deputy Chief, Wireless Telecommunications Bureau, Broadband Division, at 202-418-0797 or by e-mail to John.Schauble@fcc.gov.

SUPPLEMENTARY INFORMATION: This is a summary of the Commission's Backhaul Further Notice of Proposed Rulemaking (FNPRM), FCC 11-120, adopted and released on August 9, 2011. The full text of this document is available for inspection and copying during normal business hours in the FCC Reference Information Center, Room CY-A257, 445 12th Street, SW., Washington, DC 20554. The complete text may be purchased from the Commission's duplicating contractor, Best Copy and Printing, Inc. (BCPI), Portals II, 445 12th Street, SW., Room CY-B402, Washington, DC 20554, (202) 488-5300, facsimile (202) 488-5563, or via e-mail at fcc@bcpiweb.com. The complete text is also available on the Commission's Web site at http://hraunfoss.fcc.gov/edocs_public/attachmatch/FCC-11-120A1.doc. Alternative formats (computer diskette, large print, audio cassette, and Braille) are available by contacting Brian Millin at (202) 418-7426, TTY (202) 418-7365, or via e-mail to bmillin@fcc.gov.

Summary

Review of Part 101 Antenna Standards

1. Section 101.115(b) of the Commission's rules establishes directional antenna standards designed to maximize the use of microwave spectrum while avoiding interference between operators. More specifically, the Commission's rules set forth certain requirements, specifications, and conditions pursuant to which FS stations may use antennas that comply with either the more stringent performance standard in Category A (also known as Standard A) or the less stringent performance standard in Category B (also known as Standard B). In general, the Commission's rules require a Category B user to upgrade if the antenna causes interference problems that would be resolved by the use of a Category A antenna. The rule on its face does not mandate a specific size of antenna. Rather, it specifies certain technical parameters—maximum beamwidth, minimum antenna gain, and minimum radiation suppression—that, depending on the state of technology at any point in time, directly affect the size of a compliant antenna. The Commission adopts antenna specifications based on the technical sophistication of the communications equipment and the needs of the various users of the band at the time. Indeed, the Commission adopted similar technical specifications that effectively limited the size of antennas used in other bands. Periodically, the Commission has since reconsidered some of those antenna specifications in light of the technological evolution of communications equipment.

2. In the NOI, the Commission solicited proposals for allowing FS licensees to use smaller antennas. In the NOI, the Commission asked whether it should review our antenna standards in any particular band due to the sharp increase in demand for FS facilities for backhaul and other purposes. Accordingly, in the NOI, we asked commenting parties to: (1) Identify specific FS bands where they believe the Commission should review its antenna standards; (2) offer specific proposals for new standards; (3) describe the technological or other changes that they believe support new antenna standards; (4) describe how new antenna standards would facilitate deployment in that band; (5) discuss the impact such new antenna standards would have on other licensees in the band, including both FS licensees and other services that share the band; and (6) discuss whether the proposed standards should apply only to rural areas or to all geographical areas.

3. Based on the record received in response to the NOI, we seek additional comment on modifying the antenna standards set forth in the Commission's rules to permit the use of smaller antennas in the 5925-6875 MHz band (6 GHz band), 17700-18820 and 18920-19700 MHz bands (18 GHz band), and 21200-23600 MHz band (23 GHz band). Several parties expressed general support for modifying the antenna standards on the basis that smaller antennas are cheaper to manufacture, install, and maintain. They also contend that smaller antennas allow existing towers to accommodate more antennas and allow installations at sites that would not otherwise be able to accommodate larger antennas. A number of parties argue that fixed service licensees can also reduce their deployment costs by using smaller antennas because tower space costs are often based significantly on the size and weight of the antenna being placed on the tower. AT&T and Engineers for Integrity of Broadcast Auxiliary Service Spectrum (EIBASS) expressed general opposition to allowing smaller antennas because permitting the use of smaller antennas, without technical restrictions, could produce harmful interference and decrease spectral efficiency.

4. The most extensive discussion offered by parties focused on allowing smaller antennas in the 6, 18, and 23 GHz bands. With respect to the 6 GHz band, Cielo and Sprint recommend that the minimum antenna size be reduced from six feet to four feet. While Comsearch originally also supported allowing four-foot antennas in the 6 GHz band, it later recommended that the Commission revise the antenna standards in § 101.115 for this band to allow for use of 3-foot antennas. For the 18 GHz band, Ceragon, Cielo, and Comsearch recommend that the minimum antenna size be reduced from two feet to one foot, while Sprint recommends a minimum diameter of 18 inches. In the 23 GHz band, commenters offered varying minimum antenna sizes. For example, Comsearch, Sprint, and Cielo proposed, respectively, that the Commission permit the use of antennas eight inches, six inches, and less than 1 foot in diameter. FWCC supports Comsearch's proposals.

5. With respect to the 6 GHz band, we seek comment on Comsearch's submitted antenna standards that would permit the use of 3-foot antennas. If such a change can be made without causing harmful interference to existing users, that change would maximize the benefits of allowing smaller antennas. For the 18 GHz band, we propose to adopt the standards Comsearch has offered to allow one-foot antennas. For the 23 GHz band, we propose to allow eight-inch antennas consistent with the standards proposed by Comsearch. We note that for each of those bands, we propose changes only to the standards for Category B antennas.

6. We ask that parties specifically discuss each standard in offering further comments on the proposed modifications. To the extent that commenters propose the use of alternative antenna sizes in the 6, 18, or 23 GHz bands, we ask that they specify the technical parameters (i.e., maximum beamwidth, minimum antenna gain, and minimum radiation suppression) to allow for the use of those antennas. In particular, we seek comment on whether the proposed amendments would facilitate the efficient use of those bands by affording FS licensees the flexibility to install smaller antennas in those bands while appropriately protecting other users in the bands from interference.

7. We recognize that the proposed use of smaller, lower-gain antennas will result in more radiofrequency energy being transmitted in directions away from the actual point-to-point link and that the potential for interference is a concern for several parties. We therefore wish to ensure that any proposed changes to the Commission's rules appropriately protect other users in the bands from interference due to the operation of these smaller antennas. We seek comment on whether the use of smaller antennas pursuant to the proposed modifications will adversely affect other users in the specific bands by increasing the risk of interference. If so, do the potential benefits of using smaller antennas outweigh the potential risks of interference? We ask proponents of allowing smaller antennas to provide specific information quantifying how much money licensees could save in antenna, tower-siting, and deployment costs if the Commission authorized the use of smaller antennas as proposed in this FNPRM. Comments should be specific to a proposed antenna standard for a particular band.

8. We also seek comment on other ideas for changes to our antenna standards. Are additional options to mitigate interference needed if we modify the antenna standards in a specific band? For example, Comsearch suggested that the Commission could consider a power or EIRP tradeoff. Clearwire asks the Commission to examine its rules and consider changes to Category A (also known as Standard A) and Category B (also known as Standard B) to account for technology advancements and more sophisticated band sharing techniques and permit the deployment of different antenna geometries and smaller diameter antennas. Clearwire further urges the Commission to foster the development of different antenna geometries in addition to developing radio pattern envelope (RPE) standards for smaller diameter antennas using current parabolic geometries. We seek comment on Clearwire's suggestion and on the advantages and disadvantages of other ideas for changes in our antenna standards.

Revising Efficiency Standards in Rural Areas

9. In the NOI, the Commission sought comment on whether relaxing the current efficiency standards in rural areas would benefit rural licensees without diminishing the availability of already increasingly scarce backhaul spectrum. Section 101.141(a)(3) of the Commission's rules, Fixed Service operators must establish minimum payload capacities (in terms of megabits per second) and minimum traffic loading payload (as a percentage of payload capacity) to promote efficient frequency use for various channel sizes in certain part 101 bands. Under the current rules, the requirements apply equally to stations in urban areas and to stations in rural areas. However, the Wireless Telecommunications Bureau has historically granted waivers to licensees in rural and remote areas where operation of microwave facilities at the required efficiency standards would cause financial hardship and to the extent that the underlying purpose of the rule would not be frustrated.

10. The Commission requested comment on whether lowering the current efficiency standards in rural areas would reduce the costs associated with wireless backhaul and thereby increase investment in broadband deployment. The Commission asked proponents of changing the standards to explain how changes would provide more flexibility and facilitate deployment of backhaul and other facilities in rural areas while still being consistent with the underlying purpose of § 101.141(a)(3), which is to promote efficient utilization of the spectrum. In addition, the Commission asked commenters to discuss the impact such changes would have on existing licensees, including licensees in other services that share spectrum with Fixed Services.

11. The Commission also sought comment on how to define “rural” under a revised rule that relaxes the efficiency standards in rural areas. The Commission noted that it had established a presumption to define “rural areas” as “those counties (or equivalent) with a population density of 100 persons per square mile or less, based upon the most recently available Census data.”

12. We find that in some instances, the lower traffic volume on rural networks and greater distances between microwave links may make it financially prohibitive to meet these minimum capacity requirements when conducting backhaul operations with wireless fixed links. We therefore propose to revise our application of the efficiency standards to reduce the cost of deploying microwave backhaul facilities and thereby spur deployment of broadband in rural areas. Sprint states that “relaxed minimum payload capacities and minimum traffic loading payloads * * * [could] reduce the costs of deployment and [] allow for more microwave backhaul deployment in rural areas.” Cielo Networks concurs, arguing that lowering the efficiency standards can “lower deployment costs, which improves the businesses case for deploying microwave networks in typically underserved rural markets.” Similarly, Aviat Networks supports the proposal to allow lower spectrum efficiency in rural areas because it “will drive the roll out of broadband in rural areas.” Relaxing efficiency standards could also substantially increase the possible path length, which could dramatically improve the business case for deploying microwave backhaul facilities in certain rural areas.

13. We are sensitive to the concerns of commenters that argue that lowering efficiency standards would result in less efficient use of spectrum and discourage innovation. In heavily congested areas, those concerns are valid, and we do not propose a general elimination of efficiency standards. In rural areas, however, relaxing efficiency standards could make microwave backhaul affordable by allowing operators to use longer links or reduce costs in other ways. Our goal is to facilitate the use of microwave in remote areas where microwave may be the only feasible means of providing backhaul.

14. Our proposal for modifying the efficiency standards rule is based on our antenna standards rule, which is well known to microwave licensees. Under that rule, a licensee is permitted to use antennas meeting performance Standard B if the environment is not congested with other licensees. Under our proposal, licensees would not be required to comply with the efficiency standards of § 101.141(a)(3) if the environment allows for the use of antennas meeting performance Standard B. By definition, there should be fewer concerns about congestion and availability of spectrum in those areas. In contrast, in the more congested areas where an antenna meeting performance Standard A is required, the licensee would be required to comply with the efficiency standards unless it made a detailed showing in its application that: (1) The efficiency standards prevent the deployment of the requested link for economic or technical reasons; (2) the applicant does not have any reasonable alternatives (e.g., use of different frequency bands, use of fiber); and (3) relaxing the efficiency standards would result in tangible and specific public interest benefits. If a formerly non-congested area becomes congested such that use of a Standard A antenna is required, future applicants in that area would need to comply with the efficiency standards, absent a showing along the lines described above.

15. We seek comment on this proposed rule, as well as alternative ideas for providing relief from the efficiency standards in rural areas. We ask commenters to provide specific examples of instances in which relief from the efficiency standards could promote broadband deployment. We also seek comment on how much our proposal to modify the efficiency standards rule or any alternative ideas would reduce deployment costs. Are there benefits to our proposal or any alternative ideas beyond encouraging broadband deployment in rural areas and improving the business case for deploying microwave backhaul facilities in rural areas? Parties that oppose the idea should cite specific harms that they believe would result from changing the rule. We also seek comment on various means of implementing relief. Is it appropriate to base relief on the ability to use Category B antennas, or should the rule be based on another factor, such as the number of existing microwave links in a geographic area? If the rule is based on the number of links, how many links should be permitted and what is the appropriate geographic area for measuring the number of links? If relief is appropriate, should the Commission establish a new, lower efficiency requirement (e.g., a percentage of § 101.141(a)(3)'s existing requirements) in addition to the § 101.141(a)(1) minimum bit rate requirement? In instances where an operator must use a Category A antenna, are the proposed standards for seeking relief from the efficiency standards appropriate, or should we adopt different or additional standards? Should relief from the efficiency standards be granted as a waiver requiring specific Commission action prior to operation, or should the Commission structure the relief in such a manner as to allow conditional authority?

Allowing Wider Channels in 6 GHz and 11 GHz Bands

16. On May 14, 2010, FWCC filed a petition for rulemaking requesting that the Commission allow Fixed Service operators to combine adjacent 30 and 40 megahertz channels in the 5925-6425 MHz (Lower 6 GHz band) and 10700-11700 MHz band (11 GHz band) to increase the link capacity and simplify emerging backhaul operations. Currently, the maximum authorized channel bandwidths in the Lower 6 GHz band and 11 GHz band are 30 and 40 megahertz, respectively. FWCC contends that the current 30 and 40 megahertz channels have a “practical maximum on a single polarization of about 180-200 Mb/s” per channel, which is adequate for voice and low-speed data services (text and e-mails) but not for high-speed data (video and web browsing). FWCC anticipates that “strong growth in mobile broadband * * * will soon push backhaul requirements * * * toward[s] 360/Mb/s per channel.” Although FWCC acknowledges that it is possible to achieve the higher speeds by running separate signals on separate 30 or 40 MHz channels, it requires “complex electronics to coordinate the transmissions, with the additional disadvantage of intermodulation products due to multiple RF signals sharing the same antenna.” FWCC argues that by allowing Fixed Service operators to utilize 60 and 80 megahertz channels, it will simplify the electronics, lowers costs, improve reliability, eliminate intermodulation issues, and increase spectrum utilization.

17. NSMA states that the FWCC petition “has merit and would benefit users” but that the Commission should implement appropriate regulatory constraints to assure efficient use of the spectrum. Specifically, NSMA suggests that the Commission should consider: (1) “requiring a showing of necessity and availability for applications planning use of more than one or two 60/80 MHz wide channels on any one path”; (2) designating certain slots as “preferred” slots for wider bandwidth channels (e.g., starting at one of the band edges, so all licensees would first attempt use of these channels on the same frequencies); (3) adjusting the minimum payload requirements to account for the higher capacity capabilities of the wider bandwidth channels; and (4) adopting methods to better assure high utilization with more tightly drawn regulations. FWCC concurs with NSMA's suggestions.

18. Conterra Ultra Broadband, LLC (Conterra) opposes the petition because of concern that increasing the channel bandwidth will further limit the overall availability of channels for use in the Lower 6 and 11 GHz bands as Fixed Service operators begin to license adjacent channels to create 60 and 80 megahertz “super channels.” Conterra argues that the “initiative set forth in the FWCC's petition should not move forward unless there is a concurrent increase in available spectrum in these bands or a requirement to release unused allocations.” FWCC replies that the availability of 60 and 80 megahertz channels will improve efficiency by putting into productive use the frequency space near adjacent channel edges, where signals must otherwise be attenuated.

19. We seek comment on FWCC's proposal to allow 60 megahertz channels in the Lower 6 GHz band and 80 megahertz channels in the 11 GHz band. The proposal has the potential to allow backhaul operators to handle more capacity and offer faster data rates. The record on this issue is quite limited, however, and we therefore seek additional information on this proposal.

20. Initially, we invite commenters to provide data on the anticipated demand for wider channels in these bands in different geographies. As the Commission has recently recognized, the Lower 6 GHz band is increasingly congested, and in some locations, it can be impossible to coordinate even a 30 megahertz link in that band. We seek comment on whether there are some areas, such as pockets of rural communities, where it is possible to use wider channels in the 6 and 11 GHz bands. Given the increasing use of these bands, to what extent can wider channels be accommodated? Would the primary benefit be in rural areas, or is there sufficient capacity to support use of wider channels in more urbanized areas?

21. In support of its proposal, FWCC claims that allowing wider channels would result in a number of benefits, including lower costs, improved reliability, elimination of intermodulation issues, and increased spectrum utilization? We ask supporters of the proposal to provide specific data corroborating and quantifying the cost savings and other benefits claimed by FWCC. We also seek comment on any conditions that should limit the ability to seek such wider channels, including the conditions proposed by NSMA. To what extent would NSMA's suggestions alleviate the concerns raised by Conterra? Would combining adjacent channels simplify emerging backhaul operations, and if so, by how much? We also seek comment on concerns that combining adjacent links would unnecessarily deplete the spectrum and possibly encourage speculative licensing by applicants seeking more spectrum than they need for their own operational purposes.

22. In addition, we seek comment on how the Commission should adjust the minimum payload requirements to account for the increased capacity that is available with wider bandwidth channels, should the Commission permit wider bandwidth channels. Given that the licensee will be utilizing twice as much spectrum, should the minimum payload requirements be doubled? Or should the Commission require an even greater increase in the payload requirements because combining the two channels would allow productive use of the frequency space in the middle of the now larger channel where the signal would otherwise have had to be attenuated if it were divided into two channels? Or should the Commission adopt an alternative approach? What are the potential advantages and disadvantages of adjusting the minimum payload requirements?

Geostationary Orbital Intersections

23. To protect receivers on geostationary satellites from the potential for interference from FS transmitters, § 101.145 of the Commission's rules requires a waiver filing for: (1) FS transmitters in the 2655-2690 MHz and 5925-7075 MHz bands with an antenna aimed within 2° of the geostationary arc; and (2) FS transmitters in the 12700-13250 MHz range with an antenna aimed within 1.5° of the geostationary arc. To be approved, a waiver request must show, among other things, that the transmitter EIRP is below listed limits. In contrast, Article 21 of the ITU Radio Regulations places the 2° restriction on the pointing azimuth of antennas of FS transmitters in the 1-10 GHz band only if the EIRP is greater than 35 dBW, and the 1.5° restriction on the azimuth of antennas in the 10-15 GHz band only if the EIRP is greater than 45 dBW.

24. Comsearch asks that the Commission amend § 101.145 of the Commission's rules to require a waiver filing for FS facilities pointing near the geostationary arc only if the EIRP is greater than the values listed in the ITU Radio Regulations. Comsearch contends that the requirement primarily protects satellites located over Europe, Africa, or the Atlantic or Pacific Oceans. Comsearch believes that because the ITU has determined that FS transmitters with EIRPs below the values listed in Article 21 are unlikely to cause interference to geostationary satellites, amending the Commission's rules would improve the administrative efficiency of licensing FS links for backhaul without any corresponding harm.

25. We seek comment on amending § 101.145 of the Commission's rules to limit the circumstances under which FS transmitters must obtain a waiver in order to point near the geostationary arc. This action could facilitate microwave deployments by allowing affected licensees to deploy more quickly. The Commission's rules provide many applicants with conditional authority to begin service immediately, without waiting for final approval from the Commission, once they complete frequency coordination, with the stipulation that they must take their stations down if the Commission later rejects their applications. Conditional authority is not available, however, to applicants that must request waivers of existing rules. To the extent we can reduce the number of applicants that seek waivers, we can expedite deployment. Furthermore, the proposed change would harmonize our regulations with international regulations. It also appears that we can make a change without any increased risk of interference to satellite services. Under our proposal, we would require a waiver only if the EIRP is greater than 35 dBW for the 5925-7075 MHz band and is greater than 45 dBW in the 12700-13250 MHz band. Should the Commission adopt this or an alternative proposal? What are the potential advantages and disadvantages of adopting this or an alternative proposal?

Revising Definitions for Efficiency Standards

26. Currently, § 101.141(a)(3) of the Commission's rules lists a “minimum payload capacity” for various nominal channel bandwidths. The term “payload capacity” is not defined. According to Comsearch, data that is transmitted over a radio link includes both capacity that is available to carry traffic, as well as overhead generated by the radios such as coding and forward error correction information. Comsearch also states that IP radio systems use header compression techniques that result in repetitive overhead bits of data that are not transmitted over the radio link. As a result, the data rate at the Ethernet interfaces is higher than the rate at which data traverses the over-the-air radio path. In light of this difference, Comsearch argues that the payload capacity required by the rule should include the over-the-air capacity available for user traffic but exclude all overhead data. Accordingly, Comsearch asks the Commission to define “payload capacity” as “the bit rate available for transmission of data over a radiocommunication system, excluding overhead data generated by the system.”

27. The same rule also defines “typical utilization” of the required payload capacity for each channel bandwidth as multiples of the number of voice circuits a channel can accommodate. Comsearch recommends revising § 101.141(a)(3) to de-emphasize these legacy voice-based TDM data rates and instead emphasize a consistent efficiency requirement in terms of bits-per-second-per-Hertz (“bps/Hz”). Comsearch argues that while these examples were typical when the rule was written, they are becoming outdated as systems support other interfaces such as Internet Protocol. In addition, Comsearch believes that the rule should be changed because the bandwidth efficiency requirements vary (from 2.46 to 4.47 bps/Hz) based on channel bandwidth rather than having a uniform requirement for all channel bandwidths. Comsearch asks the Commission to obtain input from equipment manufacturers and other interested parties to develop an appropriate efficiency rate in terms of bits-per-second-per-Hertz.

28. We seek comment on Comsearch's proposals. Is the suggested definition of payload capacity appropriate, or should we adopt an alternative definition or leave the term undefined? Are there alternative ways of resolving the problems Comsearch identifies? What are the advantages and disadvantages of defining payload capacity as Comsearch requests? We ask commenters to identify advantages and disadvantages to defining the efficiency requirement in terms of bits-per-second-per-hertz or in terms of some other metric. We seek input on an appropriate benchmark value for defining the efficiency requirement in terms of bits-per-second-per-hertz if we decide to define the efficiency requirement in terms of bits-per-second-per-hertz. Should the value be the same across all frequency bands? Related to our inquiry on efficiency standards in rural areas, should there be a different benchmark value in rural areas? We also seek comment on whether there is any need to consider how the definition should be applied to legacy systems. Is there a need for any grandfathering provisions for equipment that is currently installed or equipment that is currently on the market?

Procedural Matters

Ex Parte Rules—Permit-but-Disclose Proceeding

29. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule § 1.1206(b). In proceedings governed by rule § 1.49(f) or for which the Commission has made available a method of electronic filing, written ex parte presentations and memoranda summarizing oral ex parte presentations, and all attachments thereto, must be filed through the electronic comment filing system available for that proceeding and must be filed in their native format (e.g., .doc, .xml, .ppt, searchable .pdf). Participants in this proceeding should familiarize themselves with the Commission's ex parte rules.

Comment Period and Procedures

30. Pursuant to §§ 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

Electronic Filers: Comments may be filed electronically using the Internet by accessing the ECFS: http://fjallfoss.fcc.gov/ecfs2/. or the Federal eRulemaking Portal: http://www.regulations.gov. Filers should follow the instructions provided on the website for submitting comments.

Paper Filers: Parties who choose to file by paper must file an original and four copies of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission. All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes and boxes must be disposed of before entering the building. Commercial overnight mail (other than U.S. Postal Service Express Mail and Priority Mail) must be sent to 9300 East Hampton Drive, Capitol Heights, MD 20743. U.S. Postal Service first-class, Express, and Priority mail must be addressed to 445 12th Street, SW., Washington DC 20554.

People with Disabilities: To request materials in accessible formats for people with disabilities (braille, large print, electronic files, audio format), send an e-mail to fcc504@fcc.gov or call the Consumer & Governmental Affairs Bureau at 202-418-0530 (voice), 202-418-0432 (tty).

Availability of Documents: The public may view the documents filed in this proceeding during regular business hours in the FCC Reference Information Center, Federal Communications Commission, 445 12th Street, SW., Room CY-A257, Washington, DC 20554, and on the Commission's Internet Home Page: http://www.fcc.gov. Copies of comments and reply comments are also available through the Commission's duplicating contractor: Best Copy and Printing, Inc., 445 12th Street, SW., Room CY-B402, Washington, DC, 20554, 1-800-378-3160.

Paperwork Reduction Analysis

31. This document does not contain proposed information collection(s) subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4) requirements.

Initial Regulatory Flexibility Analysis

32. As required by the Regulatory Flexibility Act of 1980 (RFA), the Commission has prepared an Initial Regulatory Flexibility Analysis (IRFA) of the possible significant economic impact on small entities of the policies and rules proposed in the Further Notice of Proposed Rulemaking. We request written public comment on the analysis. Comments must be filed in accordance with the same deadlines as comments filed in response to the FNRPM and must have a separate and distinct heading designating them as responses to the IRFA. The Commission's Consumer and Governmental Affairs Bureau, Reference Information Center, will send a copy of this Backhaul FNPRM, including the IRFA, to the Chief Counsel for Advocacy of the Small Business Administration.

A. Need for, and Objectives of, the Proposed Rules

In this Further Notice of Proposed Rulemaking, we propose five additional changes to our rules involving microwave stations. These changes are described in further detail below. First, we propose to allow the use of smaller antennas in the 5925-6875 MHz band (6 GHz band), 17700-18300 and 19300-19700 MHz bands (18 GHz band), and 21200-23600 MHz band (23 GHz band) fixed service (FS) bands. Second, we propose to exempt microwave stations in non-congested areas from our capacity and loading requirements in order to facilitate the provision of service to rural areas. Third, we propose to widen the permissible maximum channel size in the 5925-6425 GHz Band (Lower 6 GHz Band) (to allow 60 megahertz channels) and in the 10700-11700 MHz band (11 GHz Band) (to allow 80 megahertz channels) to allow faster data rates. Fourth, we propose to revise the criteria under which microwave stations that are pointing in the direction of geostationary satellites must seek a waiver prior to operating to expedite service. Finally, we propose to add a definition of “payload capacity” to our rules, and seek comment on updating our capacity and loading requirements to reflect the increasing use of interfaces such as Internet Protocol.

With respect to the first proposal, § 101.115(b) of the Commission's rules establishes directional antenna standards designed to maximize the use of microwave spectrum while avoiding interference between operators. The rule on its face does not mandate a specific size of antenna. Rather, it specifies certain technical parameters—maximum beamwidth, minimum antenna gain, and minimum radiation suppression—that, depending on the state of technology at any point in time, directly affect the size of a compliant antenna. Smaller antennas have several advantages. They cost less to manufacture and distribute, are less expensive to install because they weigh less and need less structural support, and cost less to maintain because they are less subject to wind load and other destructive forces. In addition, the modest weight of small antennas makes them practical for installation at sites incapable of supporting large dishes, including many rooftops, electrical transmission towers, water towers, monopoles and other radio towers. Smaller antennas raise fewer aesthetic objections, thereby permitting easier compliance with local zoning and homeowner association rules and generating fewer objections. On the other hand, smaller antennas have increased potential to cause interference because smaller antennas result in more radiofrequency energy being transmitted in directions away from the actual point-to-point link. We seek comment on whether we can allow smaller antennas in the 6, 18 and 23 GHz bands without producing harmful interference.

Second, pursuant to § 101.141(a)(3) of the Commission's rules, Fixed Service operators must comply with minimum payload capacities (in terms of megabits per second) and minimum traffic loading payload (as a percentage of payload capacity) to promote efficient frequency use for various channel sizes in certain part 101 bands. Under the current rules, the requirements apply equally to stations in urban areas and to stations in rural areas. We seek comment on whether exempting stations in less congested areas from complying with the minimum payload capacity rule could allow licensees to establish longer links, resulting in cost savings and facilitating the use of wireless broadband and other critical services.

Third, we propose to allow the use of wider channels in the Lower 6 GHz Band and 11 GHz Band. Specifically, we seek comment on allowing 60 megahertz channels in the Lower 6 GHz Band and 80 megahertz channels in the 11 GHz Band. The proposal has the potential to allow backhaul operators to handle more capacity and offer faster data rates.

Fourth, we seek comment on amending § 101.145 of the Commission's rules to limit the circumstances under which fixed service transmitters must obtain a waiver in order to point near the geostationary arc. Specifically, we propose to require a waiver only if the EIRP is greater than 35 dBW for the 5925-7075 MHz band and is greater than 45 dBW in the 12700-13250 MHz band. Limiting the circumstances where a waiver is necessary will be beneficial. Once the frequency coordination process is completed, the Commission's rules provide many applicants with conditional authority to begin service immediately, without waiting for final approval from the Commission, and with the stipulation that they must take their stations down if the Commission later rejects their applications. Conditional authority is not available, however, to applicants that must request waivers of existing rules. Accordingly, limiting the circumstances under which a waiver is needed will allow more applicants to rapidly commence service. Furthermore, we tentatively conclude that such a change would be consistent with international regulations and can be made without any increased risk of interference to satellite services.

Finally, we propose to add a definition of “payload capacity” to our rules, and seek comment on updating our capacity and loading standards to take into account the increasing use of interfaces such as Internet Protocol. Currently, § 101.141(a)(3) of the Commission's rules lists a “minimum payload capacity” for various nominal channel bandwidths. The same rule also defines “typical utilization” of the required payload capacity for each channel bandwidth as multiples of the number of voice circuits a channel can accommodate. These definitions are becoming outdated as systems support interfaces such as Internet Protocol. Accordingly, we propose to update our rules to add a definition of payload capacity. We also seek comment on revising our efficiency requirements to define those requirements in terms of bits-per-second-per-Hertz (“bps/Hz”) across all bands. Such changes could make our rules clearer and would be consistent with modern digital technologies.

B. Legal Basis

The proposed action is authorized pursuant to sections 1, 2, 4(i), 7, 201, 301, 302, 303, 307, 308, 309, 310, 319, 324, 332, and 333 of the Communications Act of 1934, as amended, 47 U.S.C. 151, 152, 154(i), 157, 201, 301, 302, 303, 307, 308, 309, 310, 319, 324, 332, and 333 and section 706 of the Telecommunications Act of 1996, as amended, 47 U.S.C. 1302.

C. Description and Estimate of the Number of Small Entities to Which the Proposed Rules Will Apply

The RFA directs agencies to provide a description of, and, where feasible, an estimate of the number of small entities that may be affected by the proposed rules and policies, if adopted. The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the SBA.

Small Businesses, Small Organizations, and Small Governmental Jurisdictions. Our action may, over time, affect small entities that are not easily categorized at present. We therefore describe here, at the outset, three comprehensive, statutory small entity size standards. First, nationwide, there are a total of approximately 27.5 million small businesses, according to the SBA. In addition, a “small organization” is generally “any not-for-profit enterprise which is independently owned and operated and is not dominant in its field.” Nationwide, as of 2007, there were approximately 1,621,315 small organizations. Finally, the term “small governmental jurisdiction” is defined generally as “governments of cities, towns, townships, villages, school districts, or special districts, with a population of less than fifty thousand.” Census Bureau data for 2011 indicate that there were 89,476 local governmental jurisdictions in the United States. We estimate that, of this total, as many as 88, 506 entities may qualify as “small governmental jurisdictions.” Thus, we estimate that most governmental jurisdictions are small.

Wireless Telecommunications Carriers (except satellite). The appropriate size standard under SBA rules is for the category Wired Telecommunications Carriers. Under that size standard, such a business is small if it has 1,500 or fewer employees. Census Bureau data for 2007, which now supersede data from the 2002 Census, show that there were 3,188 firms in this category that operated for the entire year. Of this total, 3,144 had employment of 999 or fewer, and 44 firms had employment of 1,000 employees or more. Thus under this category and the associated small business size standard, the Commission estimates that the majority of wireless telecommunications carriers(except satellite) are small entities that may be affected by our proposed action.

Fixed Microwave Services. Microwave services include common carrier, private-operational fixed, and broadcast auxiliary radio services. At present, there are approximately 31,549 common carrier fixed licensees and 89,633 private and public safety operational-fixed licensees and broadcast auxiliary radio licensees in the microwave services. Microwave services include common carrier, private-operational fixed, and broadcast auxiliary radio services. They also include the Local Multipoint Distribution Service (LMDS), the Digital Electronic Message Service (DEMS), and the 24 GHz Service, where licensees can choose between common carrier and non-common carrier status. The Commission has not yet defined a small business with respect to microwave services. For purposes of the IRFA, the Commission will use the SBA's definition applicable to Wireless Telecommunications Carriers (except satellite)—i.e., an entity with no more than 1,500 persons is considered small. For the category of Wireless Telecommunications Carriers (except Satellite), Census data for 2007, which supersede data contained in the 2002 Census, show that there were 1,383 firms that operated that year. Of those 1,383, 1,368 had fewer than 100 employees, and 15 firms had more than 100 employees. Thus under this category and the associated small business size standard, the majority of firms can be considered small. The Commission notes that the number of firms does not necessarily track the number of licensees. The Commission estimates that virtually all of the Fixed Microwave licensees (excluding broadcast auxiliary licensees) would qualify as small entities under the SBA definition.

Satellite Telecommunications and All Other Telecommunications. Two economic census categories address the satellite industry. The first category has a small business size standard of $15 million or less in average annual receipts, under SBA rules. The second has a size standard of $25 million or less in annual receipts.

The category of Satellite Telecommunications “comprises establishments primarily engaged in providing telecommunications services to other establishments in the telecommunications and broadcasting industries by forwarding and receiving communications signals via a system of satellites or reselling satellite telecommunications.” Census Bureau data for 2007 show that 512 Satellite Telecommunications firms operated for that entire year. Of this total, 464 firms had annual receipts of under $10 million, and 18 firms had receipts of $10 million to $24,999,999. Consequently, the Commission estimates that the majority of Satellite Telecommunications firms are small entities that might be affected by our action.

The second category, i.e. “All Other Telecommunications” comprises “establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Establishments providing Internet services or voice over Internet protocol (VoIP) services via client-supplied telecommunications connections are also included in this industry.” For this category, Census Bureau data for 2007 show that there were a total of 2,383 firms that operated for the entire year. Of this total, 2,347 firms had annual receipts of under $25 million and 12 firms had annual receipts of $25 million to $49, 999,999. Consequently, the Commission estimates that the majority of All Other Telecommunications firms are small entities that might be affected by our action.

D. Description of Projected Reporting, Recordkeeping, and Other Compliance Requirements

This FNPRM proposes no new reporting or recordkeeping requirements.

E. Steps Taken To Minimize Significant Economic Impact on Small Entities, and Significant Alternatives Considered

The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

The actions proposed in the FNPRM would provide additional options to all licensees, including small entity licensees. Such actions will serve the public interest by making additional spectrum available for fixed service users; will provide additional flexibility for broadcasters to use microwave spectrum; and will allow communications to be maintained during adverse propagation conditions. The rules will therefore open up beneficial economic opportunities to a variety of spectrum users, including small businesses. Because the actions proposed in the FNPRM will improve beneficial economic opportunities for all businesses, including small businesses, a detailed discussion of alternatives is not required.

Generally, the alternative approach would be to maintain the existing rules. With respect to the proposal to allow smaller antennas in the 6 GHz band, an alternative approach would be to establish technical criteria that would allow the use of 4-foot antennas, as opposed to the 3-foot antennas proposed. Such an approach would reduce the cost savings FS licensees could realize, including small licensees, but may reduce the potential for interference.

With respect to the proposal to relax efficiency standards in rural areas, an alternative would be to modify the requirement in non-congested areas as opposed to exempting non-congested areas from compliance. It is unclear whether such an approach would provide sufficient relief to FS licensees, including small businesses.

F. Federal Rules That May Duplicate, Overlap, or Conflict With the Proposed Rules

None.

Ordering Clauses

33. It is ordered, pursuant to sections 1, 2, 4(i), 7, 201, 301, 302, 303, 307, 308, 309, 310, 319, 324, 332, 333, and 706 of the Communications Act of 1934, as amended, 47 U.S.C. 151, 152, 154(i), 157, 201, 301, 302, 303, 307, 308, 309, 310, 319, 324, 332, and 333, and section 706 of the Telecommunications Act of 1996, as amended, 47 U.S.C. 1302, that this Further Notice of Proposed Rulemaking is hereby adopted.

34. It is further ordered that notice is hereby given of the proposed regulatory changes described in this Further Notice of Proposed Rulemaking, and that comment is sought on these proposals.

35. It is further ordered that the Commission's Consumer and Governmental Affairs Bureau, Reference Information Center, shall send a copy of this Further Notice of Proposed Rulemaking, including the Initial Regulatory Flexibility Analysis, to the Chief Counsel for Advocacy of the Small Business Administration.

List of Subjects in 47 CFR Part 101

Communications equipment, Radio, Reporting and recordkeeping requirements.

Federal Communications Commission.
Bulah P. Wheeler,
Deputy Manager.

For the reasons discussed in the preamble, the Federal Communications Commission proposes to amend 47 CFR part 101 as follows:

PART 101—FIXED MICROWAVE SERVICES

1. The authority citation for Part 101 continues to read as follows:

Authority: 47 U.S.C. 154, 303.

2. Amend § 101.3 by adding the definition “Payload Capacity” to read as follows:

§ 101.3 Definitions.

* * * * *

Payload Capacity. The bit rate available for transmission of data over a radiocommunication system, excluding overhead data generated by the system.

* * * * *

3. Amend § 101.109(c), in the table by revising the entries “5,925 to 6,425” and “10,700 to 11,700” to read as follows:

§ 101.109 Bandwidth.

* * * * *

(c) * * *

Frequency Band (MHz) | Maximum authorized bandwidth
* * * * *
5,925 to 6,425 | 60 MHz.¹
* * * * *
10,700 to 11,700 | 80 MHz.¹
* * * * *

* * * * *

4. Amend § 101.115 by revising paragraph (b) introductory text and the entries “5,925 to 6,425 ⁵, “6,525 to 6,875 ⁵, “6,875 to 7,075””, “17,700 to 18,820”, “18,920 to 19,700 ¹⁰, and “21,200 to 23,600 ⁷, ¹¹ in the table in paragraph (b)(2) to read as follows:

§ 101.115 Directional antennas.

* * * * *

(b) Fixed stations (other than temporary fixed stations and DEMS nodal stations) operating at 932.5 MHz or higher must employ transmitting and receiving antennas (excluding second receiving antennas for operations such as space diversity) meeting the appropriate performance Standard A indicated below, except that in areas not subject to frequency congestion, antennas meeting performance Standard B may be used, subject to the requirements set forth in paragraph (d) of this section. For frequencies with a Standard B1 and a Standard B2, Standard B1 shall apply to stations authorized prior to [insert effective date of rule], and Standard B2 shall apply to stations authorized after [insert effective date of rule]. Licensees shall comply with the antenna standards table shown in this paragraph in the following manner:

* * * * *

(2) * * *

Frequency | Category | Maximum beam-width to 3 dB points ¹ (included angle in degrees) | Minimum antenna gain (dBi) | Minimum radiation suppression to angle in degrees from centerline of main beam in decibels: 5° to 10° | Minimum radiation suppression to angle in degrees from centerline of main beam in decibels: 10° to 15° | Minimum radiation suppression to angle in degrees from centerline of main beam in decibels: 15° to 20° | Minimum radiation suppression to angle in degrees from centerline of main beam in decibels: 20° to 30° | Minimum radiation suppression to angle in degrees from centerline of main beam in decibels: 30° to 100° | Minimum radiation suppression to angle in degrees from centerline of main beam in decibels: 100° to 140° | Minimum radiation suppression to angle in degrees from centerline of main beam in decibels: 140° to 180°
* * * * * * *
5,925 to 6,425 ⁵ | A | 2.2 | 38 | 25 | 29 | 33 | 36 | 42 | 55 | 55
| B1 | 2.2 | 38 | 21 | 25 | 29 | 32 | 35 | 39 | 45
| B2 | 4.1 | 32 | 15 | 20 | 23 | 28 | 29 | 60 | 60
* * * * * * *
6,525 to 6,875 ⁵ | A | 2.2 | 38 | 25 | 29 | 33 | 36 | 42 | 55 | 55
| B1 | 2.2 | 38 | 21 | 25 | 29 | 32 | 35 | 39 | 45
| B2 | 4.1 | 32 | 15 | 20 | 23 | 28 | 29 | 60 | 60
6,875 to 7,075 | A | 2.2 | 38 | 25 | 29 | 33 | 36 | 42 | 55 | 55
| B1 | 2.2 | 38 | 21 | 25 | 29 | 32 | 35 | 39 | 45
| B2 | 4.1 | 32 | 15 | 20 | 23 | 28 | 29 | 60 | 60
* * * * * * *
17,700 to 18,820 | A | 2.2 | 38 | 25 | 29 | 33 | 36 | 42 | 55 | 55
| B1 | 2.2 | 38 | 20 | 24 | 28 | 32 | 35 | 36 | 36
| B2 | 3.3 | 33.5 | 18 | 22 | 29 | 31 | 35 | 57 | 59
18,920 to 19,700 ¹⁰ | A | 2.2 | 38 | 25 | 29 | 33 | 36 | 42 | 55 | 55
| B1 | 2.2 | 38 | 20 | 24 | 28 | 32 | 35 | 36 | 36
| B2 | 3.3 | 33.5 | 18 | 22 | 29 | 31 | 35 | 57 | 59
21,200 to 23,600 ⁷, ¹¹ | A | 3.3 | 33.5 | 18 | 26 | 26 | 33 | 33 | 55 | 55
| B1 | 3.3 | 33.5 | 17 | 24 | 24 | 29 | 29 | 40 | 50
| B2 | 4.5 | 30.5 | 14 | 19 | 22 | 24 | 29 | 52 | 52
* * * * * * *

5. Amend § 101.141 by revising paragraph (a)(3) to read as follows:

§ 101.141 Microwave modulation.

(a) * * *

(3) When use of an antenna meeting performance Standard A (see § 101.115) is required, the following capacity and loading requirements must be met for equipment applied for, authorized, and placed in service after June 1, 1997 in 3700-4200 MHz (4 GHz), 5925-6425, 6525-6875 MHz, and 6875-7125 MHz (6 GHz), 10,550-10,680 MHz (10 GHz), and 10,700-11700 MHz (11 GHz) bands, except during anomalous signal fading, unless a showing is made in the application that the capacity and loading requirements prevent the deployment of the requested link for economic or technical reasons; the applicant does not have any reasonable alternative; and not applying the capacity and loading requirements would result in tangible and specific public interest benefits. During anomalous signal fading, licensees subject to the capacity and loading requirements may adjust to a modulation specified in their authorization if such modulation is necessary to allow licensees to maintain communications, even if the modulation will not comply with the capacity and loading requirements specified in this paragraph. Links that must comply with the capacity and loading requirements that use equipment capable of adjusting modulation must be designed using generally accepted multipath fading and rain fading models to meet the specified capacity and loading requirements at least 99.95% of the time, in the aggregate of both directions in a two-way link.

* * * * *

6. Amend § 101.145 by revising paragraph (b) introductory text and paragraph (c) to read as follows:

§ 101.145 Interference to geo-stationary-satellites.

* * * * *

(b) 2655 to 2690 MHz and 5925 to 7075 MHz. No directional transmitting antenna utilized by a fixed station operating in these bands with EIRP greater than 35 dBW may be aimed within 2 degrees of the geostationary-satellite orbit, taking into account atmospheric refraction. However, exception may be made in unusual circumstances upon a showing that there is no reasonable alternative to the transmission path proposed. If there is no evidence that such exception would cause possible harmful interference to an authorized satellite system, said transmission path may be authorized on waiver basis where the maximum value of the equivalent isotropically radiated power (EIRP) does not exceed:

* * * * *

(c) 12.7 to 13.25 GHz. No directional transmitting antenna utilized by a fixed station operating in this band with EIRP greater than 45 dBW may be aimed within 1.5 degrees of the geostationary-satellite orbit, taking into account atmospheric refraction.

* * * * *

7. Amend § 101.147 by revising paragraph (i) introductory text, adding paragraph (i)(9), revising paragraph (o) introductory text, and adding paragraph (o)(8) to read as follows:

§ 101.147 Frequency assignments.

* * * * *

(i) 5,925 to 6,425 MHz. 60 MHz authorized bandwidth.

* * * * *

(9) 60 MHz bandwidth channels:

Transmit (receive) (MHz) | Receive (transmit) (MHz)
5964.97 | 6217.01
6024.27 | 6276.31
6083.57 | 6335.61
6142.87 | 6394.91

* * * * *

(o) 10,700 to 11,700 MHz. 80 MHz authorized bandwidth.

(8) 80 MHz bandwidth channels:

Transmit (receive) (MHz) | Receive (transmit) (MHz)
10745 | 11235
10825 | 11315
10905 | 11395
10985 | 11475
11065 | 11555
11145 | 11635

* * * * *

[FR Doc. 2011-23000 Filed 9-26-11; 8:45 am]

BILLING CODE 6712-01-P